DEPARTMENT OF THE INTERIOR

Fish and Wildlife Service

[FWS-R6-R-2015-N113; FXRS1265066CCP0-156-FF06R06000]

San Luis Valley National Wildlife Refuge Complex, Alamosa, Rio Grande, and Saguache, CO; Comprehensive Conservation Plan and Environmental Impact Statement

AGENCY: Fish and Wildlife Service, Interior.

ACTION: Notice of availability; final comprehensive conservation plan and environmental impact statement.

SUMMARY: We, the U.S. Fish and Wildlife Service, announce the availability of a final comprehensive conservation plan (CCP) and final environmental impact statement (EIS) for three national wildlife refuges (Alamosa, Monte Vista, and Baca National Wildlife Refuges) within the San Luis Valley National Wildlife Refuge Complex (refuge complex) in Alamosa, Rio Grande, and Saguache, Colorado. In these documents, we describe alternatives, including our preferred alternative, to manage the refuge complex for the 15 years following approval of the final CCP.

ADDRESSES: You may request copies of the final CCP and final EIS, or more information, by one of the following methods. You also may request hard copies or a CD-ROM of the documents.

Email: slvrefugesplanning@fws.gov. Include “San Luis Valley National Wildlife Refuge Complex CCP” in the subject line of the message.

Fax: Attn: Laurie Shannon, Planning Team Leader, 303-236-4792.

U.S. Mail: Laurie Shannon, Planning Team Leader, Division of Refuge Planning, P.O. Box 25486, Denver, CO 80225-0486.

To view comments on the final CCP-EIS from the Environmental Protection Agency (EPA), or for information on EPA's role in the EIS process, see EPA's Role in the EIS Process under SUPPLEMENTARY INFORMATION.

FOR FURTHER INFORMATION CONTACT: Laurie Shannon, Planning Team Leader, 303-236-4317 (phone) or laurie_shannon@fws.gov (email).

SUPPLEMENTARY INFORMATION:

Introduction

With this notice, we announce the availability of the final CCP and final EIS for three national wildlife refuges that are part of the refuge complex. We started this process through a notice of intent in the Federal Register on March 15, 2011 (76 FR 14042). Following a lengthy scoping and alternatives development period, we published a second notice in the Federal Register (79 FR 50937, August 26, 2014) announcing the availability of the draft CCP and draft EIS and our intention to hold public meetings, and requested comments. Comments were due October 27, 2014. In addition, EPA published a notice announcing the draft CCP and EIS (79 FR 53061; September 5, 2014), as required under section 309 of the Clean Air Act (CAA; 42 U.S.C. 7401 et seq.) We now announce the final CCP and EIS. Under the CAA, EPA will notice the final CCP and EIS as well.

EPA's Role in the EIS Process

The EPA is charged under section 309 of the Clean Air Act to review all Federal agencies' environmental impact statements (EISs) and to comment on the adequacy and the acceptability of the environmental impacts of proposed actions in the EISs.

EPA also serves as the repository (EIS database) for EISs prepared by Federal agencies and provides notice of their availability in the Federal Register. The Environmental Impact Statement (EIS) Database provides information about EISs prepared by Federal agencies, as well as EPA's comments concerning the EISs. All EISs are filed with EPA, which publishes a notice of availability each Friday in the Federal Register.

The notice of availability is the start of the 45-day public comment period for draft EISs, and the start of the 30-day “wait period” for final EISs, during which agencies are generally required to wait 30 days before making a decision on a proposed action. For more information, see http://www.epa.gov/compliance/nepa/eisdata.html. You may search for EPA comments on EISs, along with EISs themselves, at https://cdxnodengn.epa.gov/cdx-enepa-public/action/eis/search.

About the Refuges

Alamosa, Monte Vista, and Baca National Wildlife Refuges (NWRs) are located in the San Luis Valley, a high mountain basin in Alamosa, Rio Grande, and Saguache Counties, Colorado. A wide variety of habitats are found across the refuge complex, including wet meadows, playa wetlands, riparian areas within the flood plain of the Rio Grande and other creeks, desert shrublands, grasslands, and croplands. Totaling about 106,000 acres, the refuges are an important stopover for numerous migratory birds. The refuges support many groups of nesting, migrating, and wintering birds, including sandhill cranes, grebes, herons, ibis, ducks, geese, hawks, eagles, falcons, shorebirds, owls, songbirds, and others. Other wildlife includes Rocky Mountain elk, mule deer, pronghorn, coyotes, and other small mammals, amphibian species, and native fish.

Background

The CCP Process

The National Wildlife Refuge System Administration Act of 1966, as amended (16 U.S.C. 668dd-668ee) (Administration Act) by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including, where appropriate, opportunities for hunting, fishing, wildlife observation and photography, and environmental education and interpretation. We will review and update the CCP at least every 15 years as necessary in accordance with the Administration Act.

Public Outreach

We started the public outreach process in March 2011. At that time and throughout the process, we requested public comments and considered them in numerous ways. Public outreach has included holding nine public meetings, mailing planning updates, maintaining a project Web site, and publishing press releases. We have considered and evaluated all the comments we have received during this process.

CCP Alternatives We Are Considering

During the public scoping process with which we started work on the draft CCP and EIS, we, other governmental partners, Tribes, and the public raised several issues. Our final CCP and final EIS addresses both the scoping comments and the comments we received on the draft CCP and draft EIS. A full description of each alternative is in the final CCP and final EIS. To address these issues, we developed and evaluated the following alternatives, summarized below.

Alternative A: No Action

Habitat and wildlife management: There would be few changes in management of habitats and wildlife populations across the refuge complex through the manipulation of water. We would continue to manage wetland areas, wet meadows, riparian areas, and upland habitats to provide for a variety of waterbirds and other migratory birds. We would continue to protect habitat for the federally endangered southwestern willow flycatcher and other species of concern. We would continue to produce small grains at current levels on Monte Vista NWR to provide food for spring-migrating sandhill cranes. The management of elk populations would be limited to nonlethal dispersal, agency culling, and the limited distribution (dispersal) hunts on the former State lands of Baca NWR. We would phase out the existing arrangement with The Nature Conservancy for season-long bison use within Baca NWR, and we would not use bison as a management tool in the future.

Water resources management: We would continue to manage water in the same manner, except as modified by changed State rules, regulations, and policies, and we would augment water supplies in accordance with State law.

Visitor services: We would continue to provide for limited wildlife-dependent public uses, including waterfowl and small game hunting, on Monte Vista and Alamosa NWRs. We would not build new facilities to support visitor services. Baca NWR would remain closed to all public access except for limited guided tours and access to refuge offices.

Cultural resources, partnerships, and refuge complex operations: There would be few changes from current management. When the legislation passed authorizing the Baca NWR, it did not come with additional funding, and additional operations costs were absorbed into the current operations. We would seek some additional staff and operations funding to support current management needs.

Wilderness review: We would not recommend protection for any areas having wilderness characteristics or values.

Alternative B: Preferred Alternative (Wildlife Populations, Strategic Habitat Restoration, and Enhanced Public Uses)

Habitat and wildlife management: Although we would manage wetland and riparian areas within the refuge complex to achieve a variety of wetland types and conditions in order to support a diversity of migratory birds, we would focus on the focal species, including the federally listed southwestern willow flycatcher, greater sandhill cranes, and other migratory bird species or wildlife species that represent larger regional and landscape conservation goals. In specific areas, we would restore historical water flow patterns through more effective and efficient water management practices (e.g., moving water to areas that historically held more water). This could include removal or replacement of water infrastructure. We would restore riparian habitat along streams in Baca NWR and along selected areas along the Rio Grande in Alamosa NWR, and we would manage upland habitats to create a variety of conditions to provide for a diversity of wildlife species. We would use public hunting, including elk hunting across the refuge complex, to complement the State's management of elk herds in the San Luis Valley, with more limited elk hunting used on Alamosa and Monte Vista NWRs. We would phase out the existing arrangement with The Nature Conservancy for bison management on Baca NWR, but we would research the feasibility of using semi-free-ranging bison year-round to effectively maintain and enhance refuge habitats. The research area (about 12,140 acres) would have habitat-type acreages that are roughly in proportion to the habitat types found on the greater Sand Dunes landscape that includes lands managed by the National Park Service, The Nature Conservancy, and refuge lands. We would continue to grow limited amounts of small grain on Monte Vista NWR to provide food for spring-migrating sandhill cranes, but there would be a small decrease in the amount of grains grown as a result of restoring historic water flow patterns.

Water resources management: We would continue to work with other landowners and agencies throughout the watershed to keep flexibility as well as to protect and, if necessary, augment our water rights as State regulations evolve. Our water infrastructure, delivery, and efficiencies would require upgrades to make sure our wildlife, habitat, and visitor services objectives are met.

Visitor services: In addition to continuing waterfowl and limited small game hunting opportunities on Monte Vista and Alamosa NWRs, we would offer limited elk hunting on Monte Vista and Alamosa NWRs, and we would open Baca NWR for big game and limited small game hunting. We would improve public access on Monte Vista and Alamosa NWRs, including allowing more access from approximately mid-July through the end of February for wildlife viewing and interpretation on roads and trails that are currently only open to waterfowl hunters during hunting season. We would also improve existing access opportunities. We would seek funding to build a visitor center and refuge complex offices at either Monte Vista NWR or Alamosa NWR to provide for safer access to the refuge complex headquarters and to provide for a modern work environment, as well as to offer a place for visitors to come and learn more about the refuge complex resources. We would permit walk-in fishing access and bank fishing just below and above the Chicago dam on Alamosa NWR (fishing from the dam would not be allowed). We would open Baca NWR for a variety of compatible, wildlife-dependent opportunities, including providing facilities to support them, including an auto tour route, trails, viewing blinds, and interpretation and environmental education programs.

Cultural resources, partnerships, and refuge complex operations: We would increase our efforts toward identifying and protecting the significant cultural resources found on the refuge complex. We would work with partners and volunteers to accomplish our objectives, but we would also seek increased staffing levels of both full-time and seasonal employees, as well as increased funding for operations.

Wilderness review: We would recommend protection of about 13,800 acres along the southeastern boundary of Baca NWR and adjacent to Great Sand Dunes National Park and Preserve that possess wilderness characteristics and values.

Alternative C: Habitat Restoration and Ecological Processes

Habitat and wildlife management: We would take all feasible actions to restore—or mimic, where needed—the native vegetation community, based on ecological site characteristics, ecological processes, and other factors. We would restore the function of the riparian and playa areas on the Baca NWR. Where possible, we would restore natural waterflow patterns. We would phase out and end the production of small grains for migrating sandhill cranes on Monte Vista NWR. Similar to alternative B, we would use hunting to manage elk populations across the refuge complex. Periodically (not annually), we would use bison on Baca NWR to mimic the ecological benefit they may have once provided.

Water resources management: We would manage water to restore the hydrologic conditions, with less focus on habitat management for specific species or for providing wildlife viewing. In some years, water might not be available to meet life cycle needs for some waterfowl species. Existing water infrastructure would be removed or modified as needed.

Visitor services: We would continue to allow waterfowl and limited small game hunting on the Monte Vista and Alamosa NWRs. Similar to under alternative B, we would open the Baca NWR for limited big game and limited small game hunting, whereas, on the Monte Vista and Alamosa NWRs, we would rely more on limited public hunting or agency dispersal methods for elk management.

There may be other changes in public use, depending on the habitat management action. Some areas could be closed, or wildlife viewing would be more limited. Current public access would be evaluated on the Alamosa and Monte Vista NWRs. If existing roads or trails are not needed, or if these facilities fragment habitat, they could be removed or altered. Viewing areas for sandhill cranes may be moved, depending on restoration efforts. As under alternative B, on Monte Vista and Alamosa NWRs, we would also allow for access opportunities within the hunt boundary from mid-July through the end of February. We would not build a refuge headquarters or visitor center on Monte Vista or Alamosa NWR. Except for limited hunting access to achieve our management objectives, there would be few visitor facilities or programs on Baca NWR, and most of the refuge would remain closed.

Cultural resources, partnerships, and refuge complex operations: Our actions would be similar to those under alternative B, except that on Baca NWR, roads that are not needed or that are fragmenting habitat would be removed.

Wilderness review: This would be the same as under alternative B; we would recommend protection of about 13,800 acres along the southeastern boundary of Baca NWR.

Alternative D: Maximize Public Use Opportunities

Habitat and wildlife management: Under this alternative, our habitat management practices would be a blend of alternatives A and B. We would manage wildlife habitats on the refuge complex consistent with our mission and purposes, while maximizing and emphasizing quality visitor experiences and wildlife-dependent public uses. For example, we could irrigate areas that are closer to public access to facilitate wildlife viewing. We would increase agricultural production of small grains for sandhill cranes on Monte Vista NWR, including the consideration of producing grain in specific places to enhance wildlife viewing. We would offer a variety of opportunities for elk hunting (e.g., youth hunts or additional provisions for persons with disabilities), managing numbers at levels that would restore and foster the long-term health of native plant communities. We would introduce and manage a small bison herd on a confined area of the Baca NWR, emphasizing wildlife viewing and interpretive opportunities.

Water resources management: We would manage water similar to alternative B, except we would make a concerted effort to make sure there is water in specific areas to enhance wildlife viewing; this practice could require additional augmentation of water.

Visitor services: We would provide for the widest variety of compatible wildlife-dependent recreation. Similar to under alternative B, public access and visitor programs would be expanded, including building a visitor center and refuge complex at either Monte Vista or Alamosa NWR; however, there would be additional trails, viewing blinds, and seasonal auto tour routes provided across the refuge complex. Subsequently, we would increase interpretation and environmental education opportunities and seek more staff, volunteers, and partnerships to support the visitor services program. We would allow for limited fishing access on Alamosa NWR. We would also consider additional commercial uses.

Cultural resources, partnerships and refuge complex operations: Our actions would be similar to those under alternative B, except there would be greater emphasis on using students and volunteers to help us survey areas with high potential for cultural resources. We would pursue more outside partnerships and seek to increase staffing and funding to support our refuge complex operations.

Wilderness review: This would be the same as that under alternative B; we would recommend protection of about 13,800 acres along the southeastern boundary of Baca NWR.

Comments

We solicited comments on the draft CCP and draft EIS from August 26, 2014, through October 27, 2014 and accepted them through November 3, 2014. During the comment period we received over 1,000 letters, email, petitions (form letters), or verbal comments, and we thoroughly evaluated them all.

Changes to the Final CCP and Final EIS

We made the following changes in the final CCP and final EIS from the draft CCP and draft EIS.

• Fishing on Alamosa NWR. Under alternative B, we would provide for fishing access along the banks of the Rio Grande just above and below the Chicago dam (fishing from the dam would not be allowed). This was part of broader fishing opportunity element that was considered under alternative D in the draft CCP and draft EIS. Prior to our acquisition of the property near the Chicago dam, the area was popular with local fisherman who fished for game fish like northern pike and carp. When we acquired the property, we closed the access due to concerns of having people fish off the dam. After further review, under alternative B and D, we would use signs, barriers, and increased law enforcement to keep people off the dam and allow an opportunity for bank fishing just above and below the dam. Currently, there are no nesting territories for southwestern willow flycatcher found in this area, but monitoring for these protected birds would continue. Should territories be established in the area, we would institute seasonal closures as needed. Other opportunities for fishing along the Rio Grande could be considered in the future.

• For Baca NWR, we modified several trails under alternative B and D to provide for some shorter loops and longer loops. We provided additional clarity on how the public use program would be managed on the refuge.

• We also provided additional clarification under the action alternatives about opening Alamosa and Monte Vista NWRs for limited big game hunting and Baca NWR for limited big game and limited small game hunting, making it clearer that we would develop and implement a hunt plan within 1-3 years under all three action alternatives.

• Under the objectives for cultural resources, we added information about the importance of oral traditions practiced by Native Americans, and we would reach out to the Tribes regarding their oral traditions and regional knowledge about the history of the San Luis Valley.

• To emphasize the importance of water quality and monitoring and the importance of the San Luis Valley as a primary staging area for sandhill cranes from their winter grounds in northern New Mexico and the breeding grounds to the north, we added two new figures to the document: (1) Impaired waters in the San Luis Valley; and (2) Distribution of the Rocky Mountain Population of Greater Sandhill Cranes. We would also initiate a research project to better understand the trends in agricultural practices in the San Luis Valley, including the amount and distribution of small grain production on private lands, the energetic demands of spring migrating cranes, and whether other changes to Monte Vista NWR's farming program are needed as a result of ongoing drought, climate changes, and changes in State groundwater regulations.

• As necessary, we updated maps, corrected errors and provided additional clarification throughout the final CCP and final EIS.

Public Availability of Documents

In addition to any one method in ADDRESSES, you can view or obtain documents at the following locations:

• Our Web site: http://www.fws.gov/mountain-prairie/refuges/refugesUpdate/alm_bac_mtv.php

• Public libraries:

Library | Address | Phone No.
Alamosa Public Library | 300 Hunt Avenue, Alamosa, CO 81101 | (719) 589-6592
Carnegie Public Library | 120 Jefferson Street, Monte Vista, CO 81144 | (719) 852-3931
Baca Grande Library | 67487 County Road T, Crestone, CO 81131 | (719) 256-4100
Saguache Public Library | 702 Pitkin Ave, Saguache, CO 81149 | (719) 655-2551

Next Steps

We will document the final decision in a record of decision, which will be published in the Federal Register after a 30-day “wait period” that begins when EPA announces this final CCP-EIS. For more information, see EPA's Role in the EIS Process.

Dated: August 5, 2015.
Matt Hogan,
Acting Regional Director, Mountain-Prairie Region, U.S. Fish and Wildlife Service.

[FR Doc. 2015-19783 Filed 8-11-15; 8:45 am]

BILLING CODE 4310-55-P